ENVIRONMENTAL PROTECTION AGENCY

[EPA-HQ-OECA-2012-0666; FRL-9995-05-OMS]

Information Collection Request Submitted to OMB for Review and Approval; Comment Request; NESHAP for the Printing and Publishing Industry (Renewal)

AGENCY: Environmental Protection Agency (EPA).

ACTION: Notice.

SUMMARY: The Environmental Protection Agency (EPA) has submitted an information collection request (ICR), NESHAP for the Printing and Publishing Industry (EPA ICR Number 1739.09, OMB Control Number 2060-0335), to the Office of Management and Budget (OMB) for review and approval in accordance with the Paperwork Reduction Act. This is a proposed extension of the ICR, which is currently approved through June 30, 2019. Public comments were previously requested via the Federal Register on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 25, 2019.

ADDRESSES: Submit your comments, referencing Docket ID Number EPA-HQ-OECA-2012-0666, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The National Emission Standards for Hazardous Air Pollutants (NESHAP) for the Printing and Publishing Industry were proposed on March 14, 1995, promulgated on May 30, 1998, and most-recently amended on April 21, 2011. These regulations apply to both existing and new facilities operating publication rotogravure, product and packaging rotogravure, or wide-web flexographic printing presses at major sources. These standards also apply to owners and/or operators who choose to commit to and meet the criteria of establishing the facility to be an area source of hazardous air pollutants (HAP). New facilities include those that commenced construction or reconstruction after the effective date of this subpart. This information is being collected to assure compliance with 40 CFR part 63, subpart KK.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Printing and publishing facilities.

Respondent's obligation to respond: Mandatory (40 CFR part 63, subpart KK).

Estimated number of respondents: 352 (total).

Frequency of response: Initially and semiannually.

Total estimated burden: 59,800 hours (per year). Burden is defined at 5 CFR 1320.3(b).

Total estimated cost: $7,220,000 (per year), which includes $414,000 in annualized capital/startup and/or operation & maintenance costs.

Changes in the Estimates: There is no change in the labor hours in this ICR compared to the previous ICR. This is due to two considerations. First, the regulations have not changed over the past three years and are not anticipated to change over the next three years. Secondly, this ICR assumes the respondent universe subject to the regulation has remained stable since the last ICR renewal.

Courtney Kerwin,
Director, Regulatory Support Division.

[FR Doc. 2019-13454 Filed 6-24-19; 8:45 am]

BILLING CODE 6560-50-P